DEPARTMENT OF ENERGY

Federal Energy Regulatory Commission

Notice of Settlement Agreement, Soliciting Comments, and Extension of Time To Comment on the DEIS

April 30, 2003.

Take notice that the following settlement agreement has been filed with the Commission and is available for public inspection.

a. Type of Application: Settlement Agreement.

b. Project No.: 184-065.

c. Date filed: April 29, 2003.

d. Applicant: El Dorado Irrigation District.

e. Name of Project: El Dorado Project.

f. Location: Located on the South Fork of the American River and its tributaries in the counties of El Dorado, Alpine, and Amador, California, partially within the boundaries of the Eldorado National Forest. The project also diverts about 1,900 acre-feet of water from lower Echo Lake in the upper Truckee River Basin.

g. Filed Pursuant to: Rule 602 of the Commission's Rules of Practice and Procedure, 18 CFR 385.602.

h. Applicant Contact: Dr. Scott E. Shewbridge, El Dorado Irrigation District, 2890 Mosquito Road, Placerville, CA 95667-4700. Telephone (530) 622-4513.

i. FERC Contact: Any questions concerning this notice should be addressed to Susan O'Brien, e-mail address susan.obrien@ferc.gov, or telephone (202) 502-8849.

j. Deadline for filing comments: The deadline for filing comments on the Settlement Agreement and the DEIS is May 19, 2003. Reply comments due May 29, 2003.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's web site ( http://www.ferc.gov ) under the “e-Filing” link.

k. El Dorado Irrigation District filed the Settlement Agreement on behalf of itself and the U.S. Department of Agriculture Forest Service, U.S. Department of the Interior-National Park Service, California Department of Fish and Game, the County of Alpine, the County of Amador, El Dorado County Water Agency, El Dorado Citizens for Water, Friends of the River, Trout Unlimited, Sierra Club, American Whitewater, Citizens for Water, AKT Development, Chris Shutes, Richard D. Wentzel, Alice Q. Howard, and Paul J. Creger. The purpose of the Settlement Agreement is to resolve among the signatories all issues associated with issuance of a new license for the project regarding project operations, minimum streamflows, reservoir elevations, environmental restoration and enhancement measures, and recreational resource enhancements. The term of license was not resolved by the Settlement Agreement.

l. A copy of the settlement agreement is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

m. Procedural schedule: The application will be processed according to the following Hydro Licensing Schedule. Revisions to the schedule will be made as appropriate.

Comments on DEIS and Settlement Agreement: May 19, 2003.

Notice of the availability of the FEIS: July 2003.

Magalie R. Salas,
Secretary.

[FR Doc. 03-11122 Filed 5-5-03; 8:45 am]

BILLING CODE 6717-01-P